DEPARTMENT OF HEALTH AND HUMAN SERVICES

Opportunity to Co-Sponsor Office of Disease Prevention and Health Promotion Healthy Aging Summit and Regional Workshops

AGENCY: Office of Disease Prevention and Health Promotion, Office of the Assistant Secretary for Health, Office of the Secretary, Department of Health and Human Services.

ACTION: Notice.

SUMMARY: The Office of Disease Prevention and Health Promotion (ODPHP) announces the opportunity for non-Federal public and private sector organizations and entities to co-sponsor the 2020 Healthy Aging Regional Workshops (Workshops) and/or the 2021 Healthy Aging Summit (HAS).

Opportunity A: 2020 Healthy Aging Regional Workshop co-sponsorship will involve executing a single or series of financially self-sustaining (no federal funds will be provided to the co-sponsor) meetings or workshops to convene healthy-aging stakeholders to support regional action planning and dissemination of information on healthy aging, aging in place, and age-friendly public health systems.

Opportunity B: 2021 Healthy Aging Summit co-sponsorship will involve executing a single financially self-sustaining (no federal funds will be provided to the co-sponsor) conference and related activities focused on health promotion and disease prevention research across the lifespan. This Summit will identify critical research needs and highlight the latest science of creating livable communities and improving healthy aging.

This co-sponsorship opportunity is not a grant or contract award program and each partner will be responsible for financially supporting its own activities. Potential co-sponsors must have demonstrated interest in and experience with coordinating healthy aging-focused activities, be capable of managing the day-to-day operations associated with the proposed activities, and be willing to participate substantively in the execution of the co-sponsored activity.

DATES: To receive consideration, proposals for co-sponsoring Healthy Aging Regional Workshops and/or the 2021 Healthy Aging Summit must be received via email or postmarked mail at the addresses listed below, by 5:00 p.m. EST on January 17, 2020. Proposals will meet the deadline if they are either (1) received on or before the deadline date; or (2) postmarked on or before the deadline date. Private metered postmarks will not be accepted as proof of timely mailing. Hand-delivered proposals must be received by 5:00 p.m. EST on January 17, 2020. Proposals that are received after the deadline will not be considered.

ADDRESSES: Expressions of interest for healthy-aging co-sponsorships should be submitted via email to HP2030@hhs.gov with the subject line “Co-sponsorship Opportunity for Healthy Aging” or by mail to Ayanna Johnson, Office of Disease Prevention and Health Promotion, 1101 Wootton Parkway, Suite 420, Rockville, MD 20852.

FOR FURTHER INFORMATION CONTACT: Ayanna Johnson, Office of Disease Prevention and Health Promotion, Office of the Assistant Secretary for Health, 1101 Wootton Parkway, Suite 420, Rockville, MD 20852; Telephone: (240) 453-8280; Email: HP2030@hhs.gov.

SUPPLEMENTARY INFORMATION:

Background

ODPHP is a program office within the Office of the Assistant Secretary for Health (OASH), Office of the Secretary of the U.S. Department of Health and Human Services (HHS). ODPHP was established by Congress in 1976 with a mission to provide leadership for disease prevention and health promotion efforts for all Americans. To promote the health of the country, ODPHP sets national health goals and supports programs, services, and educational activities. ODPHP leads Healthy People 2020/2030, Dietary Guidelines for Americans, Physical Activity Guidelines for Americans, National Clinical Care Commission, National Youth Sports Strategy, President's Council on Sports, Fitness and Nutrition, and healthfinder.gov.

The percentage of the population age 65 or older in the United States is growing. It is estimated that by 2050, 20.9% of the population will be over age 65, compared to 13.7% in 2012. This group is living and working longer, redefining later life, and enriching our communities and society in new and vital ways. Improvements in the delivery of preventive services and care coordination, and a greater understanding of the social, environmental and emotional factors that influence health in the later years of life could help reduce health care costs and improve quality of life for older Americans.

Preparing regional public health and aging services leaders, to ensure that our public health system is equipped to support the unique health needs of older Americans, is of utmost importance. To further address the health needs of Americans as they age, ODPHP organized Healthy Aging Summits in 2015 and 2018. The Summits provided an opportunity to share the state-of-the-science in healthy aging, identify knowledge gaps, promote prevention and support livable communities for aging in place. Following the Summits, one-day national workshops convened state aging directors and state health officers to develop state-level priorities and action plans to promote healthy aging. The 2018 workshop expanded convened both state and local public health leaders to explore issues affecting older adults.

Building on the Healthy People model, ODPHP projects use a social-determinants-of-health (SDOH) framework to strengthen public health. The framework calls for looking at upstream conditions that impact health. The SDOH framework was adapted to each of the Summits through the conference tracks which included: Maximizing Quality of Life, Social and Community Context, Health and Health Care, and Neighborhood and Built Environment.

Requirements of the Co-Sponsorship

Consistent with ODPHP's mission and the applicable statutory authority, Title XVII of the Public Health Service Act, the Healthy Aging Regional Workshops and Healthy Aging Summit aim to support the dissemination of relevant information and convene experts to share best practices for disease prevention and health promotion. The Workshops convene over 1 day, and typically have 50 attendees. The Summit convenes over 3 days, and typically has 600 attendees.

ODPHP is seeking organizations capable of managing the development and execution of healthy aging research-sharing conferences or workshops and programming. Co-sponsors will assist with workshop and/or summit and agenda development, coordination, financial management, and meeting logistics in conjunction with ODPHP staff.

Approved proposals will require a co-sponsorship agreement signed by both the co-sponsor and ODPHP that outlines the terms and parameters of the agreement. The co-sponsorship will be in place for 6 months after the conclusion on the workshop or Summit.

Healthy Aging Workshops and Summit

Opportunity A—Healthy Aging Regional Workshops will involve executing a single or series of financially self-sustaining workshops that convene aging and public health stakeholders to support regional action planning and dissemination of information on healthy aging, aging in place, and age-friendly public health systems. ODPHP plans to hold four workshops. Each workshop will be held in a city located in one of the designated HHS Regional pairs—Regions 3 & 4 (Atlanta), Regions 6 & 9 (Phoenix or Albuquerque), Regions 5 & 7 (Kansas City or Chicago), and Regions 8 & 10 (Denver).

Opportunity B—2021 Healthy Aging Summit—The collaborative project will involve executing a single financially self-sustaining conference that supports research and information-sharing on health promotion and disease prevention research across the lifespan. This conference draws more than 600 stakeholders, every three years, to examine the state of the science and best practices in healthy aging through a social determinants of health lens. Past conference information can be found here: https://www.eventscribe.com/2018/ACPM-HAC/index.asp?launcher=1.

Eligibility for Co-Sponsorships

To be eligible, a collaborating organization shall: (1) Have a demonstrated interest in, understanding of, and experience with managing the development and execution of engaging programs, activations and/or other activities related to disease prevention and health promotion; (2) participate substantively in the co-sponsored activity (not only logistical support) including helping plan the 2020 Healthy Aging Regional workshops and/or 2021 Healthy Aging Summit; (3) have an organizational or corporate mission that is aligned with the mission of ODPHP and HHS; and (4) sign a co-sponsorship agreement with ODPHP that will set forth the details of the Healthy Aging Regional Workshop and/or Summit, including the requirements that any registration fees raised should not exceed the collaborating organization's costs, and fees collected by the co-sponsor should be limited to the amount necessary to cover the co-sponsor's event-related operating expenses. Co-sponsors are solely responsible for collecting and handling any fees to cover their costs.

The co-sponsor will furnish the necessary personnel, materials, services, and facilities to administer its responsibility for the proposed Healthy Aging Regional Workshops and/or Summit. These duties will be determined and outlined in a co-sponsorship agreement with ODPHP. This co-sponsorship agreement does not represent an endorsement by ODPHP of an individual co-sponsor's policies, positions, or activities.

Co-Sponsorship Proposal

Each potential co-sponsor's proposal shall contain a description of:

(1) The entity or organization's interest and goals in healthy aging;

(2) Prior experience and current readiness to undertake the responsibilities for planning and organizing a Healthy Aging Regional workshop(s) and/or Summit;

(3) Requester's information: Name, professional qualifications and specific expertise of key personnel who would be available to work on the project;

(4) The type of event(s), i.e., Workshop or 2021 Summit, that the entity is interested in co-sponsoring with ODPHP;

(5) Facilities available for the event(s);

(6) Description of financial management: Discussion of experience in developing a project budget and collecting and managing monies from organizations and individuals;

(7) For the Healthy Aging Summit only: Proposed plan for managing Summit, including, but not limited to participant recruitment, call for abstracts distribution/review, ability to provide CEs, website development and/or enhancement, cost of materials, and distribution of those items.

Proposals should be no more than four (4) pages, 12 point font, double spaced.

Dated: November 29, 2019.
Donald Wright,
Deputy Assistant Secretary for Health, Disease Prevention and Health Promotion.

[FR Doc. 2019-26821 Filed 12-12-19; 8:45 am]

BILLING CODE 4150-32-P